LIBRARY OF CONGRESS

Copyright Office

37 CFR Part 201

[Docket No. RM 2008-08]

Exemption to Prohibition on Circumvention of Copyright Protection Systems for Access Control Technologies

AGENCY: Copyright Office, Library of Congress.

ACTION: Interim rule.

SUMMARY: The Librarian of Congress is extending, on an interim basis, the existing classes of works with respect to which the prohibition against circumvention of technological measures that effectively control access to copyrighted works shall not apply to persons who engage in noninfringing uses.

DATES: Effective Date: October 28, 2009.

FOR FURTHER INFORMATION CONTACT: David Carson, General Counsel, Copyright Office, GC/I&R, P.O. Box 70400, Washington, DC 20024. Telephone: (202) 707-8380. Telefax: (202) 707-8366.

SUPPLEMENTARY INFORMATION: Section 1201(a)(1) of the copyright law prohibits the circumvention of technological measures that control access to works protected by copyright. It also provides that every three years, the Register of Copyrights is to conduct a rulemaking proceeding to determine whether users of particular classes of copyrighted works are, or in the next three years are likely to be, adversely affected by that prohibition in their ability to make noninfringing uses of copyrighted works. That determination is made by the Librarian of Congress upon the recommendation of the Register of Copyrights. Section 1201(a)(1)(D) provides that “The Librarian shall publish any class of copyrighted works for which the Librarian has determined, pursuant to the rulemaking conducted under subparagraph (C), that noninfringing uses by persons who are users of a copyrighted work are, or are likely to be, adversely affected, and the prohibition contained in subparagraph (A) shall not apply to such users with respect to such class of works for the ensuing 3-year period.”

The Register of Copyrights is conducting the fourth of these triennial rulemaking proceedings and is in the final stages of making her recommendation to the Librarian of Congress. The rulemaking conducted in 2006 identified six classes of works to be subject to exemption from the prohibition on circumvention for the period beginning November 27, 2006, and ending October 27, 2009. Because the Register will not be able to present her recommendation to the Librarian of Congress before October 27, it is necessary to extend the effective dates of the existing regulation identifying those classes of works until the time that the Librarian acts upon the recommendation of the Register. It is anticipated that this extension will be in effect for no more than a few weeks.

Accordingly, the Register of Copyrights recommends to the Librarian of Congress that the existing regulation, codified at 37 CFR 201.40(b), be amended on an interim basis to strike the reference to the October 27, 2009, termination date for the list of classes of works identified in the regulation.

The Librarian of Congress accepts the recommendation of the Register of Copyrights and adopts the following interim rule.

List of Subjects in 37 CFR Part 201

Cable television, Copyright, Exemptions to prohibition against circumvention, Literary works, Recordings, Satellites.

Dated: October 20, 2009.
Marybeth Peters,
Register of Copyrights.

Interim Regulation

For the reasons set forth in the preamble, 37 CFR part 201 is amended as follows:

PART 201-GENERAL PROVISIONS

1. The authority citation for part 201 continues to read as follows:

Authority: 17 U.S.C. 702.

§ 201.40 [Amended]

2. Section 201.40 (b) introductory text is amended by removing “from November 27, 2006, through October 27, 2009,” and adding in its place “commencing November 27, 2006.”

Dated: October 22, 2009.
James H. Billington,
Librarian of Congress.

[FR Doc. E9-25850 Filed 10-26-09; 8:45 am]

BILLING CODE 1410-30-P